DEPARTMENT OF THE INTERIOR

Bureau of Indian Affairs

[124A2100RM. AADD003200. A087C222. 999900. AR. DED. 97C22214. 001]

Request for Nominees to Serve on the Bureau of Indian Education Advisory Board for Exceptional Children

AGENCY: Bureau of Indian Affairs, Interior.

ACTION: Notice.

SUMMARY: The Bureau of Indian Education (BIE) is seeking nominations for individuals to be considered as a member of the Advisory Board for Exceptional Children (Advisory Board). There are six positions available. BIE will consider nominations received in response to this request for nominations, as well nominations received from as other sources.

DATES: Nomination applications must be received on or before November 15, 2013.

ADDRESSES: Submit nomination applications to Sue Bement, Designated Federal Officer, Bureau of Indian Education, 1011 Indian School Road NW., Suite 332, Albuquerque, New Mexico 87104-1088, telephone (505) 563-5274 or fax (505) 563-5281.

FOR FURTHER INFORMATION CONTACT: Sue Bement, Designated Federal Officer, at the above-listed address and telephone number.

SUPPLEMENTARY INFORMATION: The Advisory Board was established in accordance with the Federal Advisory Committee Act, 5 U.S.C. App 2. The following provides information about the Committee, the membership and the nomination process.

1. Objective and Duties

(a) Members of the Advisory Board will provide guidance, advice, and recommendations with respect to special education and related services for children with disabilities in Bureau-funded schools in accordance with the requirements of the Individuals with Disabilities Education Act of 2004 (IDEA).

(b) The Advisory Board will:

(1) Provide advice and recommendations for the coordination of services within BIE and with other local, State, and Federal agencies;

(2) Provide advice and recommendations on a broad range of policy issues dealing with provision of educational services to American Indian children with disabilities;

(3) Serve as an advocate for American Indian students with special education needs by providing advice and recommendations regarding best practices, effective program coordination strategies, and recommendations for improved educational programming;

(4) Provide advice and recommendations for preparation of information required to be submitted to the Secretary of Education under 20 U.S.C. 1411(h)(2);

(5) Provide advice and recommend policies concerning effective inter- and intra-agency collaboration, including modifications to regulations, and elimination of barriers to inter- and intra-agency programs and activities; and

(6) Report and direct all correspondence to the Assistant Secretary-Indian Affairs through the Director, BIE with a courtesy copy to the Designated Federal Officer (DFO).

2. Membership

(a) Pursuant to 20 U.S.C. 1411(h)(6), the Advisory Board will be composed of up to 15 individuals involved in or concerned with the education and provision of services to Indian infants, toddlers, children, and youth with disabilities. The Advisory Board composition will reflect a broad range of viewpoints and will include at least one member representing each of the following interests: Indians with disabilities; teachers of children with disabilities; Indian parents or guardians of children with disabilities; service providers; state education officials; local education officials; state interagency coordinating councils (for states having Indian reservations); tribal representatives or tribal organization representatives; and other members representing the various divisions and entities of BIE.

(b) The Assistant Secretary—Indian Affairs may provide the Secretary of the Interior recommendations for the chairperson; however, the chairperson and other Advisory Board members will be appointed by the Secretary. Advisory Board members shall serve staggered terms of two years or three years from the date of their appointment.

3. Miscellaneous

(a) Members of the Advisory Board will not receive compensation, but may be reimbursed for travel, including subsistence, and other necessary expenses incurred in the performance of their duties in the same manner as persons employed intermittently in government service under 5 U.S.C. 5703.

(b) A member may not participate in matters that will directly affect, or appear to affect, the financial interests of the member or the member's spouse or minor children, unless authorized by the appropriate ethics official. Compensation from employment does not constitute a financial interest of the member so long as the matter before the committee will not have a special or distinct effect on the member or the member's employer, other than as part of a class. The provisions of this paragraph do not affect any other statutory or regulatory ethical obligations to which a member may be subject.

(c) The Advisory Board meets at least twice a year, budget permitting, but additional meetings may be held as deemed necessary by the Assistant Secretary—Indian Affairs or DFO.

(d) All Advisory Board meetings are open to the public in accordance with the Federal Advisory Committee Act.

4. Nomination Information

(a) Nominations are requested from individuals, organizations, and federally recognized tribes, as well as from State directors of Special Education (within the 23 States in which Bureau-funded schools are located) concerned with the education of Indian children with disabilities as described above.

(b) Nominees should have expertise in and knowledge of the issues and needs of American Indian children with disabilities. Such knowledge and expertise are needed to provide advice and recommendations to BIE regarding the needs of American Indian children with disabilities.

(c) A summary of the candidate's qualifications (résumé or curriculum vitae) must be provided. Nominees must have the ability to attend Advisory Board meetings, carry out Advisory Board assignments, participate in conference calls, and work in groups.

Basis for Nominations

If you wish to nominate someone for appointment to the Advisory Board, please do not make the nomination until the person has agreed to have his or her name submitted to BIE for this purpose.

Nomination Application

(Please fill out this form completely and include a copy of the nominee's résumé or curriculum vitae.)

Information Collection

This collection of information is authorized by OMB Control Number 1076-0179, “Solicitation of Nominations for the Advisory Board for Exceptional Children.”

BILLING CODE 4310-6W-P

Dated: September 25, 2013.
Kevin K. Washburn,
Assistant Secretary—Indian Affairs.

[FR Doc. 2013-24726 Filed 10-21-13; 8:45 am]

BILLING CODE 4310-6W-C